DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (https://www.treasury.gov/ofac).

Notice of OFAC Action

On August 7, 2020, OFAC determined that the property and interests in property subject to U.S. jurisdiction of the following person are blocked pursuant to the relevant sanctions authority listed below.

Individual

SOULEYMANE, Bi Sidi (a.k.a. ABASS, Sidiki; a.k.a. ABBAS, Sidiki; a.k.a. BI SIDI, Souleymane; a.k.a. SIDIKI, Abbas; a.k.a. SOULEMAN, Bi Sidi; a.k.a. SOULEMANE, Bi Sidi; a.k.a. SOULIMANE, Sidiki Abass; a.k.a. “Sidiki”), Central African Republic; DOB 20 Jul 1962; POB Bocaranga, Ouham-Pende prefecture, Central African Republic; nationality Central African Republic; alt. nationality Chad; alt. nationality Cameroon; Gender Male (individual) [CAR].

Designated pursuant to section 1(a)(ii)(A)(4) of Executive Order 13667 (E.O. 13667) of May 12, 2014, “Blocking Property of Certain Persons Contributing to the Conflict in the Central African Republic,” 79 FR 28387, 3 CFR 13667, for being responsible for or complicit in, or having engaged in, directly or indirectly, in or in relation to the Central African Republic, the targeting of women, children, or any civilians through the commission of acts of violence (including killing, maiming, torture, or rape or other sexual violence), abduction, forced displacement, or attacks on schools, hospitals, religious sites, or locations where civilians are seeking refuge, or through conduct that would constitute a serious abuse or violation of human rights or a violation of international humanitarian law.

Dated: August 7, 2020.
Andrea M. Gacki,
Director, Office of Foreign Assets Control, U.S. Department of the Treasury.

[FR Doc. 2020-17625 Filed 8-11-20; 8:45 am]

BILLING CODE 4810-AL-P